Title 3—

The President

Executive Order 14254 of March 31, 2025

Combating Unfair Practices in the Live Entertainment Market

By the authority vested in me as President by the Constitution and the laws of the United States of America, it is hereby ordered:

Section 1. Purpose. (a) America's live concert and entertainment industry is the envy of the world. But it has become blighted by unscrupulous middlemen who sit at the intersection between artists and fans and impose egregious fees while providing minimal value. Ticket scalpers use bots and other unfair means to acquire large quantities of face-value tickets and then re-sell them at an enormous markup on the secondary market, price-gouging consumers and depriving fans of the opportunity to see their favorite artists without incurring extraordinary expenses. By some reports, fans have paid as much as 70 times face value to obtain a ticket. When this occurs, the artists do not receive any profit. All profits go solely to the scalper and the ticketing agency.

(b) My Administration is committed to making as accessible as possible the arts and entertainment that enrich Americans' lives. The rent-seeking behaviors surrounding the ticketing industry are contrary to this goal. They are detrimental to consumers and capitalize on market distortions that must not be allowed to persist.

Sec. 2. Implementation. My Administration shall use all lawful authority to address the conduct described in section 1 of this order. Accordingly, I direct that:

(a) the Attorney General and the Federal Trade Commission (FTC) ensure that competition laws are appropriately enforced in the concert and entertainment industry, including where venues, ticketing agents, or combinations thereof operate to the detriment of artists and fans;

(b) the FTC rigorously enforce the Better Online Tickets Sales Act, 15 U.S.C. 45c, and collaborate with State Attorneys General or other State consumer protection officers on enforcement of the Better Online Ticket Sales Act, including by providing such State officials with information or evidence obtained by the FTC when consistent with applicable law;

(c) the FTC take appropriate action, including proposing regulations if necessary, to ensure price transparency at all stages of the ticket-purchase process, including the secondary ticketing market;

(d) the FTC evaluate and, if appropriate, take enforcement action to prevent unfair, deceptive, and anti-competitive conduct in the secondary ticketing market; and

(e) the Secretary of the Treasury and Attorney General ensure, as appropriate, that ticket scalpers are operating in full compliance with the Internal Revenue Code and other applicable law.

Sec. 3. Report. Within 180 days of the date of this order, the Secretary of the Treasury, Attorney General, and Chairman of the FTC shall jointly submit a report to the Assistant to the President for Economic Policy and the Director of the Office and Management and Budget describing the actions they have taken to implement this order. The report shall also identify any recommendations for regulations or legislation necessary to protect consumers with respect to the live concert and entertainment industry.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 31, 2025.

[FR Doc. 2025-05906

Filed 4-2-25; 11:15 am]

Billing code 3395-F4-P